DEPARTMENT OF LABOR

Office of the Secretary

Submission for OMB Review; Comment Request

July 15, 2003.

The Department of Labor (DOL) has submitted the following public information collection request (ICR) to the Office of Management and Budget (OMB) for review and approval in accordance with the Paperwork Reduction Act of 1995 (Pub. L. 104-13, 44 U.S.C. Chapter 35). A copy of this ICR, with applicable supporting documentation, may be obtained by calling the Department of Labor. To obtain documentation, contact Darrin King on (202) 693-4129 (this is not a toll-free number) or E-Mail: king.darrin@dol.gov.

Comments should be sent to Office of Information and Regulatory Affairs, Attn: OMB Desk Officer for the Mine Safety and Health Administration (MSHA), Office of Management and Budget, Room 10235, Washington, DC 20503 (202-395-7316/this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Type of Review: Extension of a currently approved collection.

Agency: Mine Safety and Health Administration.

Title: Fire Protection (Underground Coal Mines).

OMB Number: 1219-0054.

Affected Public: Business or other for-profit.

Number of Respondents: 893.

Requirement | Frequency | Annual responses | Average response time (hours) | Annual burden hours
Examine chemical fire extinguishers—30 CFR 75.1100-3 | Semi-annually | 36,840 | 0.033 | 1,216
Program of instruction—30 CFR 75.1101-23(a) | On occasion | 248 | 0.500 | 124
Fire drill certifications—30 CFR 75.1101-23(c) | Quarterly | 10,716 | 0.500 | 5,358
Inspect automatic fire sensors and warning devices—30 CFR 75.1103-8
Weekly examinations | Weekly | 123,760 | 0.250 | 30,940
Weekly certification | Weekly | 123,760 | 0.170 | 21,039
Annual function test | Annually | 2,380 | 0.250 | 595
Test fire hydrant—30 CFR 75.1103-11 | Annually | 35,700 | 0.500 | 17,850
Total |  | 333,404 |  | 77,122

Total Annualized Capital/Startup Costs: $0.

Total Annual Costs (operating/maintaining systems or purchasing services): $1,240.

Description: Section 311(a) of the Mine Safety and Health Act of 1977 (Pub. L. 91-173) states that each coal mine shall be provided with suitable firefighting equipment adapted for the size and conditions of the mine. Under 30 CFR 75.1100-3, chemical fire extinguishers must be examined every 6 months and the date of the examination recorded on a permanent tag attached to the extinguisher. Under section 75.1101-23(a), operators of underground coal mines are required to establish a program for the instruction of all miners in the proper fire fighting and evacuation procedures to be followed in event of an emergency. The program includes a specific fire fighting and evacuation plan designed to acquaint miners on all shifts with procedures for: (i) Evacuation of all miners not required for fire fighting activities; (ii) rapid assembly and transportation of necessary people, fire suppression equipment, and rescue apparatus to the scene of the fire; and (iii) operation of the fire suppression equipment available in the mine. Under section 75-1101-23(c), an underground coal mine operator is required to conduct fire drills at intervals of not more than 90 days. The operator is to certify by signature and date that fire drills were conducted in accordance with the approved program. Under section 75.1103-8, a qualified person must examine the automatic fire sensor and warning device systems on a weekly basis, and must conduct a functional test of the complete system at least once a year. Under section 75.1103-11, each fire hydrant and hose must be tested at least once a year, and the records of those tests shall be kept in an appropriate location.

Ira L. Mills,
Departmental Clearance Officer.

[FR Doc. 03-18964 Filed 7-24-03; 8:45 am]

BILLING CODE 4510-30-P